DEPARTMENT OF JUSTICE

Notice of Lodging of Proposed Consent Decree Under the Comprehensive Environmental Response, Compensation, and Liability Act

On September 30, 2024, the Department of Justice lodged a proposed consent decree with the United States District Court for the Central District of California in the lawsuit entitled United States, Cal. Dept. of Toxic Substances Control, and Toxic Substances Control Account v. Honeywell International Inc., et al., Civil Action No. 2:24-cv-08378.

The United States, the California Department of Toxic Substances Control (“DTSC”), and the Toxic Substances Control Account filed the lawsuit under the Comprehensive Environmental Response, Compensation, and Liability Act (“CERCLA”) and the California Health and Safety Code. The complaint names Honeywell International Inc., HD Development of Maryland, Inc., Kaiser Foundation Health Plan, Inc., and PSA Institutional Partners, L.P. as defendants. The complaint requests recovery of costs that the United States and DTSC incurred responding to releases and threatened releases of hazardous substances at or from the North Hollywood Operable Unit of the San Fernando Valley (Area 1) Superfund Site in Los Angeles, California. The complaint also seeks injunctive relief, including implementation of the second interim remedy that the U.S. Environmental Protection Agency (“EPA”) selected for the North Hollywood Operable Unit.

The defendants signed the consent decree. Under the consent decree, Honeywell International Inc. agrees to implement the second interim remedy in a portion of the North Hollywood Operable Unit and to pay EPA and DTSC's future response costs. HD Development of Maryland, Inc., Kaiser Foundation Health Plan, Inc., and PSA Institutional Partners, L.P. agree to pay $250,000 each to EPA for past response costs. All defendants agree to pay $21,952.57 to DTSC for past response costs. In return, the United States, DTSC, and the Toxic Substances Control Account agree not to sue the defendants under sections 106 and 107(a) of CERCLA or under section 7003 of the Resource Conservation and Recovery Act (“RCRA”) regarding the remedial work and costs. DTSC and the Toxic Substances Control Account further agree not to sue the defendants under California Health and Safety Code sections 79055, 78870, 78660, or 79650.

The publication of this notice opens a period for public comment on the consent decree. Comments should be addressed to the Assistant Attorney General, Environment and Natural Resources Division, and should refer to United States, Cal. Dept. of Toxic Substances Control, and Toxic Substances Control Account v. Honeywell International Inc., et al., D.J. Ref. No. 90-11-3-1149/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area. Any comments submitted in writing or at a public meeting may be filed by the United States in whole or in part on the public court docket without notice to the commenter.

During the public comment period, the consent decree may be examined and downloaded at this Justice Department website: https://www.justice.gov/enrd/consent-decrees. If you require assistance accessing the consent decree, you may request assistance by email or by mail to the addresses provided above for submitting comments.

Scott Bauer,
Assistant Section Chief, Environmental Enforcement Section, Environment and Natural Resources Division.

[FR Doc. 2024-23079 Filed 10-4-24; 8:45 am]

BILLING CODE 4410-15-P